DEPARTMENT OF ENERGY

Federal Energy Regulatory Commission

[Project No. 7186-054]

Missisquoi, LLC; Notice of Scoping Meetings and Environmental Site Review and Soliciting Scoping Comments

Take notice that the following hydroelectric application has been filed with the Commission and is available for public inspection.

a. Type of Application: New Major License.

b. Project No.: 7186-054.

c. Date Filed: September 30, 2022.

d. Applicant: Missisquoi, LLC (Missisquoi).

e. Name of Project: Sheldon Springs Hydroelectric Project.

f. Location: On the Missisquoi River in Franklin County, Vermont.

g. Filed Pursuant to: Federal Power Act 16 U.S.C. 791(a)-825(r).

h. Applicant Contact: Mr. Kevin Webb, Licensing Manager, Missisquoi, LLC, 670 N Commercial St., Suite 204, Manchester, NH 03101; Phone at (978) 935-6039, or email at kwebb@centralriverspower.com.

i. FERC Contact: Arash Barsari at (202) 502-6207, or Arash.JalaliBarsari@ferc.gov.

j. Deadline for filing scoping comments: July 27, 2023.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852. All filings must clearly identify the project name and docket number on the first page: Sheldon Springs Hydroelectric Project (P-7186-054).

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. This application is not ready for environmental analysis at this time.

l. Project Description: The existing project consists of: (1) a 286-foot-long, 35.5-foot-high concrete Ambursen-type buttress dam that includes a 262-footlong spillway section with a 2-foot-high flashboards and a crest elevation of 328.8 feet National Geodetic Vertical Datum of 1929 (NGVD 29) at the top of the flashboards; (2) an impoundment with a surface area of 175 acres at an elevation of 328.8 feet NGVD 29; (3) a Main Powerhouse that contains two 10.25-megawatt (MW) vertical Kaplan turbine-generator units (Units 1 and 2), for a total installed capacity of 20.5 MW; (4) a South Mill Powerhouse that contains a 1-MW Francis turbine-generator unit (Unit 3); (5) a Grinder Room Powerhouse that contains two 1.65-MW Francis turbine-generator units (Units 4 and 5), for a total installed capacity of 3.3 MW; (6) a 0.165-MW Kaplan turbine-generator; (7) two transmission lines; and (8) appurtenant facilities. The project creates an approximately 4,700-foot-long bypassed reach of the Missisquoi River.

Recreation facilities at the project include: (1) a canoe take-out area that is located approximately 2,200 feet upstream of the dam on the northern shore of the impoundment; (2) a picnic area with three picnic tables, a seasonal restroom, an informational kiosk, and a parking area that is located immediately downstream of the dam on the western bank of the bypassed reach; (3) a whitewater put-in area that is located approximately 400 feet downstream of the dam on the western shore of the bypassed reach; (4) a picnic area with a picnic table and a fire pit that is located approximately 1,000 feet downstream of the dam on the southern shore of the bypassed reach; (5) a whitewater take-out area that is located approximately 300 feet upstream of the tailrace of the Grinder Room Powerhouse; and (6) a put-in/take-out area adjacent to the Main Powerhouse tailrace.

Missisquoi voluntarily operates the project in a run-of-river mode, such that outflow from the project approximates inflow. The minimum and maximum hydraulic capacities of the Main Powerhouse are 300 and 2,612 cubic feet per second (cfs), respectively. The minimum and maximum hydraulic capacities of the South Mill Powerhouse are 112 and 260 cfs, respectively. The minimum and maximum hydraulic capacities of the Grinder Room Powerhouse are 160 and 400 cfs, respectively. The 0.165-MW turbine-generator is only capable of operating at 70 cfs. The average annual energy production of the project from 2010 through 2020 was 69,277 megawatt-hours.

For the purpose of protecting aquatic resources, Article 35 of the current license requires Missisquoi to release: (1) a minimum flow of 70 cfs or inflow, whichever is less, to the bypassed reach; (2) a minimum flow of 270 cfs or inflow, whichever is less, as measured immediately below the tailrace of the South Mill Powerhouse; and (3) a minimum flow of 285 cfs or inflow, whichever is less, as measured immediately below the tailrace of the Main Powerhouse.

For recreational purposes at the project, the current license requires Missisquoi to: (1) provide boat access and take-out facilities below the dam and upstream of the Main Powerhouse tailrace, respectively; (2) provide a 24-hour telephone message service regarding flow conditions at the dam; (3) cooperate with paddling groups to determine the optimum flows for boats, and provide the optimum flows for a maximum of 6 scheduled weekend days per year up to a maximum of 200,000,000 cubic feet of whitewater releases each year; and (4) allow year-round access for paddlers regardless of whether whitewater flows are being released.

Missisquoi proposes to: (1) revise the project boundary to include an approximately 400-foot-long path from the canoe take-out site to Shawville Road; (2) revise the project boundary to include a portion of the Heather Lane from its intersection with Shawville Road to approximately 50 feet north of a non-project Solar Farm, as part of the canoe portage route; (3) continue to operate the project in a run-of-river mode; (4) continue to provide a minimum flow of 70 cfs or inflow, whichever is less, from the dam into the bypassed reach; (5) release a minimum flow of 285 cfs downstream of the South Mill Powerhouse tailrace or inflow, whichever is less; (6) implement an impoundment refill procedure, in the event of a drawdown of the impoundment, whereby 90 percent of inflow is passed downstream and 10 percent of inflow is used to refill the impoundment; (7) release approximately 13 cfs or inflow, whichever is less, over the spillway flashboard crest to provide an aesthetic veil of flow over the dam, from 7:00 a.m. to 8:00 p.m. from May 1 to October 31; (8) develop an operation compliance monitoring plan; (9) acquire property rights of a land associated with the 400-foot-long path from the canoe take-out site to Shawville Road; (10) remount the sign upstream of the boater exclusion cable, which says “Danger Dam Ahead—Portage Here” to be more visible from the river; (11) provide a two-car parking area along Heather Lane approximately 400 feet southeast of the Main Powerhouse for the put-in/take-out area adjacent to the Main Powerhouse tailrace; (12) improve the existing whitewater put-in area by rearranging existing boulders to provide a stepped approach to the river in coordination with Vermont Division of Historic Preservation; (13) relocate the existing whitewater take-out area to a more gently sloped take-out immediately downstream of the existing location; (14) release whitewater flows from the project dam in consultation with the American Whitewater and Vermont Agency of Natural Resources; (15) ramp up and ramp down generation flows by 500 cfs per hour when providing whitewater flows; and (16) implement erosion control measures to protect cultural resources.

Missisquoi proposes to decommission Units 4 and 5, and remove the Grinder Room Powerhouse and associated facilities from the project boundary. Missisquoi proposes to file the following information related to the decommissioning by September 1, 2023: (1) an engineering assessment and historic structures assessment of the structures to be decommissioned; (2) a decommissioning plan; and (3) a revised single-line electrical diagram.

m. A copy of the application can be viewed on the Commission's website at https://www.ferc.gov using the “eLibrary” link. Enter the docket number excluding the last three digits in the docket number field to access the document. For assistance, contact FERC Online Support.

You may also register at https://ferconline.ferc.gov/FERCOnline.aspx to be notified via email of new filings and issuances related to this or other pending projects. For assistance, please contact FERC Online Support at FERCOnlineSupport@ferc.gov.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

n. Scoping Process

Pursuant to the National Environmental Policy Act (NEPA), Commission staff intends to prepare either an environmental assessment (EA) or an environmental impact statement (EIS) (collectively referred to as the “NEPA document”) that describes and evaluates the probable effects, including an assessment of the site-specific and cumulative effects, if any, of the proposed action and alternatives. The Commission's scoping process will help determine the required level of analysis and satisfy the NEPA scoping requirements, irrespective of whether the Commission issues an EA or an EIS.

Scoping Meetings

Commission staff will hold two public scoping meetings to receive input on the scope of the environmental issues that should be analyzed in the NEPA document. The daytime meeting will focus on the concerns of resource agencies, non-governmental organizations (NGOs), and Indian tribes. The evening meeting will focus on receiving input from the public. All interested individuals, resource agencies, Indian tribes, and NGOs are invited to attend one or both of the meetings. The times and locations of these meetings are as follows:

Daytime Scoping Meeting

Date: Tuesday, June 27, 2023.

Time: 10:00 a.m. (EDT).

Place: Sheldon Elementary School, Gymnasium.

Address: 78 Poor Farm Road, Sheldon, VT 05483.

Evening Scoping Meeting

Date: Tuesday, June 27, 2023.

Time: 6:30 p.m. (EDT).

Place: Sheldon Elementary School, Gymnasium.

Address: 78 Poor Farm Road, Sheldon, VT 05483.

Copies of the Scoping Document (SD1) outlining the subject areas to be addressed in the NEPA document were distributed to the parties on the Commission's mailing list. Copies of the SD1 will be available at the scoping meeting or may be viewed on the web at http://www.ferc.gov using the “eLibrary” link (see item m above).

Environmental Site Review

The applicant and Commission staff will conduct an environmental site review of the project beginning at 1:00 p.m. on June 27, 2023. All interested individuals, agencies, tribes, and NGOs are invited to attend. All participants should meet at the parking area west of the project dam, which is located at 104 Upper Shipping Yard Road, Sheldon, Vermont 05483. All participants are responsible for their own transportation and must wear closed-toe shoes/boots for walking in uneven/sloped terrain around the project, and for entrance into the powerhouses during the site visit. If you plan to attend the environmental site review, please contact Ms. Miley Kinney of the Missisquoi, LLC at (603) 732-8162, or via email at mkinney@patriothydro.com on or before June 21, 2023.

Objectives

At the scoping meetings, Commission staff will: (1) summarize the environmental issues tentatively identified for analysis in the NEPA document; (2) solicit from the meeting participants all available information, especially quantifiable data, on the resources at issue; (3) encourage statements from experts and the public on issues that should be analyzed in the NEPA document, including viewpoints in opposition to, or in support of, the staff's preliminary views; (4) determine the resource issues to be addressed in the NEPA document; and (5) identify those issues that require a detailed analysis, as well as those issues that do not require a detailed analysis.

Procedures

The meetings are recorded by a stenographer and become part of the formal record of the Commission proceeding on the project. Individuals, NGOs, Indian tribes, and agencies with environmental expertise and concerns are encouraged to attend the meeting and to assist the staff in defining and clarifying the issues to be addressed in the NEPA document.

Dated: May 30, 2023.
Kimberly D. Bose,
Secretary.

[FR Doc. 2023-11936 Filed 6-5-23; 8:45 am]

BILLING CODE 6717-01-P